DEPARTMENT OF AGRICULTURE

Forest Service

Fishlake Resource Advisory Committee

AGENCY: Forest Service, USDA.

ACTION: Notice of meeting.

SUMMARY: The Fishlake Resource Advisory Committee (RAC) will hold two virtual meetings by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act as well as make recommendations on recreation fee proposals for sites on the Fishlake National Forest within Sevier County, Utah, consistent with the Federal Lands Recreation Enhancement Act. RAC information and virtual meeting information can be found at the following website: https://www.fs.usda.gov/main/fishlake/workingtogether/advisorycommittees.

DATES: The meetings will be held on August 10, 2021 and August 16, 2021, at 6:30 p.m., Mountain Daylight Time.

All RAC meetings are subject to cancellation. For meeting status prior to attendance, please contact the person listed under FOR FURTHER INFORMATION CONTACT.

ADDRESSES: The meetings will be held virtually.

Written comments may be submitted as described under SUPPLEMENTARY INFORMATION. All comments, including names and addresses when provided, are placed in the record and are available for public inspection and copying. The public may inspect comments received upon request.

FOR FURTHER INFORMATION CONTACT: Dan Child, Designated Federal Officer (DFO), by phone at 435-979-1762 or email at daniel.child@usda.gov or Kendal Nelson at 435-491-0079 or email at kendall.nelson@usda.gov.

Individuals who use telecommunication devices for the hearing-impaired (TDD) may call the Federal Information Relay Service (FIRS) at 1-800-877-8339 between 8:00 a.m. and 8:00 p.m., Eastern Daylight Time, Monday through Friday.

SUPPLEMENTARY INFORMATION: The purpose of the meetings is to:

1. Review RAC charter and elect RAC chairperson;

2. Review project proposals;

3. Make funding recommendations on Title II projects; and

4. Schedule the next meeting.

The meetings are open to the public. The agendas will include time for people to make oral statements of three minutes or less. Individuals wishing to make an oral statement should make a request in writing by July 15, 2021 to be scheduled on the agenda for that particular meeting. Anyone who would like to bring related matters to the attention of the committee may file written statements with committee staff before or after the meetings. Written comments and requests for time for oral comments must be sent to the Fishlake National Forest, Attn: Dan Child, 115 East 900 North, Richfield, UT or by email to daniel.child@usda.gov.

Meeting Accommodations: If you require reasonable accommodation, please make requests in advance for sign language interpreting, assistive listening devices, or other reasonable accommodation. For access to the facility or proceedings, please contact the person listed in the section titled FOR FURTHER INFORMATION CONTACT. All reasonable accommodation requests are managed on a case-by-case basis.

Dated: July 13, 2021.
Cikena Reid,
USDA Committee Management Officer.

[FR Doc. 2021-15213 Filed 7-16-21; 8:45 am]

BILLING CODE 3411-15-P